SECURITIES AND EXCHANGE COMMISSION

Issuer Delisting; Notice of Application To Withdraw From Listing and Registration; (Bitwise Designs, Inc., Common Stock, $.001 Par Value) File No. 0-20190

January 9, 2001.

Bitwise Designs, Inc., a Delaware corporation (“Company”), has filed an application with the Securities and Exchange Commission (“Commission”), pursuant to Section 12(d) of the Securities Exchange Act of 1934 (“Act”) ¹ and Rule 12d2-2(d) thereunder,² to withdraw its Common Stock, $.001 par value (“Security”), from listing and registration on the Pacific Exchange, Inc. (“PCX”).

¹ 15 U.S.C. 78l(d).

² 17 CFR 240.12d2-2(d).

The Company's Security has been approved for quotation on the National Market of the Nasdaq Stock Market, Inc. (“Nasdaq National Market”). Trading in the Security on the Nasdaq National Market began in April 2000. As a result, the Company has determined to withdraw its Security from listing and registration on the PCX in the belief there are no additional benefits to either the Company or its shareholders in maintaining such listing. In effecting such withdrawal, the Company will avoid the direct and indirect costs incurred in maintaining the PCX listing.

The Company has stated in its application that it has complied with the rules of the PCX governing the withdrawal of an issue from listing and registration and that the PCX has in turn indicated that it will not oppose such withdrawal. The Company's application relates solely to the withdrawal of the Security from listing on the PCX and registration under section 12(b) of the Act ³ and shall have no effect upon the Security's continuing quotation on the Nasdaq National Market or on its obligation to be registered under section 12(g) of the Act.⁴

³ 15 U.S.C. 78l(b).

⁴ 15 U.S.C. 78l(g).

Any interested person may, on or before January 31, 2001, submit by letter to the Secretary of the Securities and Exchange Commission, 450 Fifth Street, NW., Washington, DC 20549-0609, facts bearing upon whether the application has been made in accordance with the rules of the Amex and what terms, if any, should be imposed by the Commission for the protection of investors. The Commission, based on the information submitted to it, will issue an order granting the application after the date mentioned above, unless the Commission determines to order a hearing on the matter.

For the Commission, by the Division of Market Regulation, pursuant to delegated authority.⁵
⁵ 17 CFR 200.30-3(a)(1).
Jonathan G. Katz,
Secretary.

[FR Doc. 01-1190 Filed 1-12-01; 8:45 am]

BILLING CODE 8010-01-M